DEPARTMENT OF THE TREASURY

Office of Foreign Assets Control

Notice of OFAC Sanctions Actions

SUB-AGENCY: Office of Foreign Assets Control, Department of the Treasury.

ACTION: Notice.

SUMMARY: The U.S. Department of the Treasury's Office of Foreign Assets Control (OFAC) is publishing the names of one or more persons whose property and interests in property have been unblocked and who have been removed from the Specially Designated Nationals and Blocked Persons List (SDN List).

DATES: See Supplementary Information section for effective date(s).

FOR FURTHER INFORMATION CONTACT:

OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

A. On October 31, 2023, OFAC determined that the property and interests in property subject to U.S. jurisdiction of the following persons are unblocked and they have been removed from the SDN List.

Individuals

1. BARAHONA CORDOBEZ, Jaime (a.k.a. BARONA CORDOBES, Jaime; a.k.a. BARONA CORDOBEZ, Jaime), Km. 16.5 El Salvador 169, Andalucia, Guatemala; Avenida Reforma 8-33 Zona 10, Guatemala City, Guatemala; 10 Calle 5-60 Zona 9, Guatemala City, Guatemala; c/o OVERSEAS TRADING COMPANY S.A., Guatemala City, Guatemala; DOB 01 Oct 1960; POB Guatemala; Passport 16660729 (Guatemala); NIT #953243-9 (Guatemala) (individual) [SDNT].

2. BOHADA AVILA, Lubin, Calle 142A No. 106A-21 apt. 302, Bogota, Colombia; Carrera 100 No. 11-90 of. 403, Cali, Colombia; c/o AGRONILO S.A., Toro, Valle, Colombia; c/o ARMAGEDON S.A., La Union, Valle, Colombia; c/o GAD S.A., La Union, Valle, Colombia; c/o INDUSTRIAS DEL ESPIRITU SANTO S.A., Malambo, Atlantico, Colombia; c/o FRUTAS DE LA COSTA S.A., Malambo, Atlantico, Colombia; c/o TARRITOS S.A., Cali, Colombia; c/o ASESORES CONSULTORES ASOCIADOS LTDA., Cali, Colombia; c/o CONSTRUCCIONES E INVERSIONES LTDA., La Union, Valle, Colombia; c/o FUNDACION CENTRO FRUTICOLA ANDINO, La Union, Valle, Colombia; c/o WORLD WORKING COMERCIALIZADORA INTERNACIONAL S.A., Cali, Colombia; Cedula No. 19093178 (Colombia) (individual) [SDNT].

3. GOMEZ PIQUERAS, Jose Luis, c/o LINEAS AEREAS ANDINAS LINCANDISA S.A., Quito, Ecuador; c/o OBRAS Y PROYECTOS PIQUEHERVA S.L., Madrid, Spain; Calle San Jose, No. 20, Urbanizacion El Berrocal I y II, El Boalo, Mataelpino, Madrid, Spain; DOB 25 May 1941; POB Barcelona, Spain; Passport BC045629 (Spain); Tax ID No. 02681293-E (Spain) (individual) [SDNTK].

4. GOMEZ QUINTERO, Carlos Alberto, Calle 14 No. 4-124, La Union, Valle, Colombia; Factoria La Rivera, La Union, Valle, Colombia; c/o CASA GRAJALES S.A., La Union, Valle, Colombia; c/o FREXCO S.A., La Union, Valle, Colombia; c/o GRAJALES S.A., La Union, Valle, Colombia; c/o INVERSIONES SANTA CECILIA S.C.S., La Union, Valle, Colombia; c/o INVERSIONES SANTA MONICA LTDA., La Union, Valle, Colombia; c/o CONSTRUCCIONES E INVERSIONES LTDA., La Union, Valle, Colombia; c/o FUNDACION CENTRO FRUTICOLA ANDINO, La Union, Valle, Colombia; DOB 23 Jan 1957; POB Palmira, Valle, Colombia; Cedula No. 6355791 (Colombia); Passport AH411417 (Colombia) (individual) [SDNT].

5. GRAJALES HERNANDEZ, Agustin, c/o CASA GRAJALES S.A., La Union, Valle, Colombia; c/o FREXCO S.A., La Union, Valle, Colombia; c/o GRAJALES S.A., La Union, Valle, Colombia; Cedula No. 2697864 (Colombia) (individual) [SDNT].

6. GRAJALES LEMOS, Raul Alberto, Carrera 15 No. 13-39, La Union, Valle, Colombia; Carrera 10 Norte No. 31-01, Cali, Colombia; c/o AGRONILO S.A., Toro, Valle, Colombia; c/o AGUSTIN GRAJALES Y CIA. LTDA., La Union, Valle, Colombia; c/o ALMACAES S.A., Bogota, Colombia; c/o ARMAGEDON S.A., La Union, Valle, Colombia; c/o C.A.D. S.A., Bogota, Colombia; c/o CASA GRAJALES S.A., La Union, Valle, Colombia; c/o CRETA S.A., La Union, Valle, Colombia; c/o FREXCO S.A., La Union, Valle, Colombia; c/o GAD S.A., La Union, Valle, Colombia; c/o G.L.G. S.A., Bogota, Colombia; c/o GRAJALES S.A., La Union, Valle, Colombia; c/o HEBRON S.A., Tulua, Valle, Colombia; c/o HOTEL LOS VINEDOS, La Union, Valle, Colombia; c/o IBADAN LTDA., Tulua, Valle, Colombia; c/o ILOVIN S.A., Bogota, Colombia; c/o INDUSTRIAS DEL ESPIRITU SANTO S.A., Malambo, Atlantico, Colombia; c/o INTERNATIONAL FREEZE DRIED S.A., Bogota, Colombia; c/o INVERSIONES AGUILA LTDA., La Union, Valle, Colombia; c/o INVERSIONES GRAME LTDA., La Union, Valle, Colombia; c/o INVERSIONES LOS POSSO LTDA. S.C.S., La Union, Valle, Colombia; c/o INVERSIONES SANTA CECILIA S.C.S., La Union, Valle, Colombia; c/o INVERSIONES SANTA MONICA LTDA., La Union, Valle, Colombia; c/o JOSAFAT S.A., Tulua, Valle, Colombia; c/o MACEDONIA LTDA., La Union, Valle, Colombia; c/o PANAMERICANA LTDA., Cali, Colombia; c/o RAMAL S.A., Bogota, Colombia; c/o SALIM S.A., La Union, Valle, Colombia; c/o SALOME GRAJALES Y CIA. LTDA., Bogota, Colombia; c/o SOCIEDAD DE NEGOCIOS SAN AGUSTIN LTDA., La Union, Valle, Colombia; c/o TRANSPORTES DEL ESPIRITU SANTO S.A., La Union, Valle, Colombia; c/o FRUTAS DE LA COSTA S.A., Malambo, Atlantico, Colombia; c/o CONFECCIONES LINA MARIA LTDA., La Union, Valle, Colombia; c/o FUNDACION CENTRO FRUTICOLA ANDINO, La Union, Valle, Colombia; c/o FUNDACION CENTRO DE INVESTIGACION HORTIFRUTICOLA DE COLOMBIA, La Union, Valle, Colombia; DOB 13 Dec 1957; POB La Union, Valle, Colombia; Cedula No. 6356044 (Colombia) (individual) [SDNT].

7. GRAJALES MEJIA, Jorge Julio, c/o AGUSTIN GRAJALES Y CIA. LTDA., La Union, Valle, Colombia; c/o FREXCO S.A., La Union, Valle, Colombia; c/o GRAJALES S.A., La Union, Valle, Colombia; c/o INVERSIONES GRAME LTDA., La Union, Valle, Colombia; c/o SOCIEDAD DE NEGOCIOS SAN AGUSTIN LTDA., La Union, Valle, Colombia; c/o FUNDACION CENTRO FRUTICOLA ANDINO, La Union, Valle, Colombia; c/o FUNDACION CENTRO DE INVESTIGACION HORTIFRUTICOLA DE COLOMBIA, La Union, Valle, Colombia; Cedula No. 14961290 (Colombia) (individual) [SDNT].

8. GRAJALES PUENTES, Diana Carolina, Transversal 13A No. 123-10 Int. 2 apt. 203, Bogota, Colombia; DOB 15 Mar 1979; POB La Victoria, Valle, Colombia; Cedula No. 52455790 (Colombia) (individual) [SDNT] (Linked To: SALIM S.A.; Linked To: HEBRON S.A.; Linked To: INDUSTRIAS DEL ESPIRITU SANTO S.A.; Linked To: JOSAFAT S.A.; Linked To: DOXA S.A.; Linked To: CITICAR LTDA.; Linked To: AGROPECUARIA EL NILO S.A.).

9. HENAO MONTOYA, Lorena, Calle 52 No. 28E-30, Cali, Colombia; Calle 8 No. 39-79 of. 201, Cali, Colombia; c/o AGROINVERSORA URDINOLA HENAO Y CIA. S.C.S., Cali, Colombia; c/o CONSTRUCTORA UNIVERSAL LTDA., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; c/o CASA GRAJALES S.A., La Union, Valle, Colombia; c/o FREXCO S.A., La Union, Valle, Colombia; c/o GRAJALES S.A., La Union, Valle, Colombia; c/o HOTEL LOS VINEDOS, La Union, Valle, Colombia; c/o IBADAN LTDA., Tulua, Valle, Colombia; c/o INVERSIONES AGUILA LTDA., La Union, Valle, Colombia; c/o INVERSIONES GRAME LTDA., La Union, Valle, Colombia; c/o INVERSIONES LOS POSSO LTDA. S.C.S., La Union, Valle, Colombia; c/o INVERSIONES SANTA CECILIA S.C.S., La Union, Valle, Colombia; c/o INVERSIONES SANTA MONICA LTDA., La Union, Valle, Colombia; c/o PANAMERICANA LTDA., Cali, Colombia; c/o SOCIEDAD DE NEGOCIOS SAN AGUSTIN LTDA., La Union, Valle, Colombia; c/o INDUSTRIAS AGROPECUARIAS EL EDEN S.A., Higueronal Torti, Darien, Panama; DOB 09 Oct 1968; Cedula No. 31981533 (Colombia) (individual) [SDNT].

10. PALACIO MONTOYA, Nelson Albeiro; DOB 28 Nov 1968; POB Medellin, Antioquia, Colombia; Cedula No. 71702964 (Colombia) (individual) [SDNTK] (Linked To: SUBASTA GANADERA DE CAUCASIA S.A.; Linked To: FRIGORIFICO DEL CAUCA S.A.S.).

11. PIEDRAHITA CEBALLOS, Jose Bayron; DOB 27 Dec 1958; POB Bello, Antioquia, Colombia; Cedula No. 8399245 (Colombia); C.U.I.T. 20-60357110-0 (Argentina) (individual) [SDNTK] (Linked To: ARROCERA CONTADORA; Linked To: JOSE PIELES; Linked To: COMERCIALIZADORA TROPPO SOCIEDAD ANONIMA; Linked To: SUBASTA GANADERA DE CAUCASIA S.A.; Linked To: FRIGORIFICO DEL CAUCA S.A.S.; Linked To: RECREO S.A.; Linked To: DYSTRY PANAMA S.A.; Linked To: LA ALIANZA GANADERA LTDA.; Linked To: LA OFICINA DE ENVIGADO).

12. QUINTERO MARIN, Lucio, c/o INDUSTRIAS AGROPECUARIAS EL EDEN S.A., Higueronal Torti, Darien, Panama; DOB 03 Apr 1966; POB El Dovio, Valle, Colombia; Cedula No. 94191399 (Colombia); Passport 94191399 (Colombia) (individual) [SDNT].

13. QUINTERO MARIN, Maria Eugenia, c/o INDUSTRIAS AGROPECUARIAS EL EDEN S.A., Higueronal Torti, Darien, Panama; DOB 29 Jul 1968; POB El Dovio, Valle, Colombia; Cedula No. 66703157 (Colombia); Passport 66703157 (Colombia) (individual) [SDNT].

14. RENTERIA MANTILLA, Carlos Alberto (a.k.a. “BETO RENTERIA”), Carrera 26 No. 29-75, Tulua, Colombia; DOB 11 Mar 1945; POB Colombia; citizen Colombia; Cedula No. 6494208 (Colombia) (individual) [SDNT] (Linked To: DIMABE LTDA.; Linked To: COLOMBO ANDINA COMERCIAL COALSA LTDA.).

15. ROJAS MONTOYA, Maritza, c/o CASA GRAJALES S.A., La Union, Valle, Colombia; c/o FREXCO S.A., La Union, Valle, Colombia; c/o GRAJALES S.A., La Union, Valle, Colombia; c/o IBADAN LTDA., Tulua, Valle, Colombia; c/o INVERSIONES AGUILA LTDA., La Union, Valle, Colombia; Cedula No. 31838109 (Colombia) (individual) [SDNT].

16. ROLL CIFUENTES, Jaime Alberto, c/o C.I. GLOBAL INVESTMENTS S.A., Medellin, Colombia; c/o HOTELES Y BIENES S.A, Bogota, Colombia; DOB 15 Mar 1979; POB Medellin, Colombia; Cedula No. 98667284 (Colombia) (individual) [SDNTK].

17. SABAGH CAJELI, Romez Jose (a.k.a. SABAGH, Ramzi); DOB 04 Jun 1960; POB El Carmen de Bolivar, Bolivar, Colombia; Cedula No. 17848240 (Colombia) (individual) [SDNTK] (Linked To: ALMACEN SONIPAL).

18. URDINOLA GRAJALES, Ivan (a.k.a. URDINOLA GRAJALES, Jairo Ivan), Calle 52 No. 28E-30, Cali, Colombia; Hacienda La Lorena, Zarzal, Valle del Cauca, Colombia; c/o AGROINVERSORA URDINOLA HENAO Y CIA. S.C.S., Cali, Colombia; c/o CONSTRUCTORA UNIVERSAL LTDA., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; DOB 01 Dec 1960; Cedula No. 94190353 (Colombia); Passport AD129003 (Colombia) (individual) [SDNT].

19. URDINOLA GRAJALES, Julio Fabio, Carrera 40 No. 5A-40, Cali, Colombia; c/o CONSTRUCTORA E INMOBILIARIA URVALLE CIA. LTDA., Cali, Colombia; Cedula No. 16801454 (Colombia) (individual) [SDNT].

20. VARGAS CORREA, Humberto; DOB 25 Mar 1959; POB Iztacalco, Distrito Federal, Mexico; R.F.C. VACH5903253B0 (Mexico); C.U.R.P. VACH590325HDFRRM07 (Mexico) (individual) [SDNTK].

Entities

1. AGROINVERSORA URDINOLA HENAO Y CIA. S.C.S., Calle 5 No. 22-39 of. 205, Cali, Colombia; Calle 52 No. 28E-30, Cali, Colombia; NIT # 800042180-1 (Colombia) [SDNT].

2. AGROPECUARIA EL NILO S.A. (a.k.a. AGRONILO S.A.), Calle 14 No. 4-123, La Union, Valle, Colombia; Corregimiento El Bohio Finca El Nilo, Toro, Valle, Colombia; Establecimientos Corabastos Bodega Reina Puesto 35A, Bogota, Colombia; Establecimientos Corabastos Bodega Reina Puesto 64A, Bogota, Colombia; NIT # 800099699-5 (Colombia) [SDNT].

3. AGUSTIN GRAJALES Y CIA. LTDA., Factoria La Rivera, La Union, Valle, Colombia; NIT # 800166941-0 (Colombia) [SDNT].

4. ALMACAES S.A., Avenida 15 No. 123-30, Local 1-13, Bogota, Colombia; Carrera 65 No. 71-74, Barranquilla, Colombia; Diagonal 127 No. 17-34 Piso 2, Bogota, Colombia; NIT # 830086515-1 (Colombia) [SDNT].

5. ALMACEN SONIPAL, Carrera 10 No. 12-20, Maicao, Guajira, Colombia; Matricula Mercantil No 0004638 (Colombia) [SDNTK].

6. ARMAGEDON S.A., Factoria La Rivera, La Union, Valle, Colombia; NIT # 800112221-4 (Colombia) [SDNT].

7. ARROCERA CONTADORA, Vereda Rioman, Caceres, Antioquia, Colombia; Carrera 4A No. 7A-47, Barrio Centro, Ayapel, Cordoba, Colombia; Matricula Mercantil No 57192402 (Medellin) [SDNTK].

8. ASESORES CONSULTORES ASOCIADOS LTDA. (a.k.a. ACA LTDA.), Carrera 100 No. 11-90 Ofc. 403, Cali, Colombia; NIT # 805007818-1 (Colombia) [SDNT].

9. CALI@TELE.COM LTDA. (a.k.a. HOLA TELECOMUNICACIONES), Calle 13 No. 80-60 Loc. 224, Cali, Colombia; NIT # 805021515-1 (Colombia) [SDNT].

10. CANADUZ S.A., Calle 23BN No. 5N-37, Ofc. 202, Cali, Colombia; NIT # 805024035-1 (Colombia) [SDNT].

11. CASA GRAJALES S.A., Apartado Aereo 20288, Cali, Colombia; Calle 96 No. 11B-39, Bogota, Colombia; Carrera 10 No. 31-01, Cali, Colombia; Factoria La Rivera, La Union, Valle, Colombia; Zona Industrial Los Mangos, Cali, Colombia; NIT # 891902138-1 (Colombia) [SDNT].

12. C.I. GLOBAL INVESTMENTS S.A., Carrera 48 No. 38-46, Medellin, Colombia; NIT # 811039750-7 (Colombia) [SDNTK].

13. CITICAR LTDA., Calle 15 No. 10-52, La Union, Valle, Colombia; NIT # 800026660-6 (Colombia) [SDNT].

14. COLOMBO ANDINA COMERCIAL COALSA LTDA., Carrera 14 No. 95-47, Ofc.201, Bogota, Colombia; NIT # 800084516-0 (Colombia) [SDNT].

15. COMERCIALIZADORA TROPPO SOCIEDAD ANONIMA (a.k.a. TROPPO S.A.), Calle 7 Sur 42 70 603, Medellin, Antioquia, Colombia; NIT # 800142500-2 (Colombia) [SDNTK].

16. COMUNICACIONES ABIERTAS CAMARY LTDA., Calle 13 No. 80-60 Loc. 224, Cali, Colombia; NIT # 805028107-1 (Colombia) [SDNT].

17. CONFECCIONES LINA MARIA LTDA., Factoria La Rivera, La Union, Valle, Colombia; NIT # 800026667-7 (Colombia) [SDNT].

18. CONSTRUCCIONES E INVERSIONES LTDA., Calle 15 No. 10-52, La Union, Valle, Colombia; NIT # 800154939-3 (Colombia) [SDNT].

19. CONSTRUCTORA E INMOBILIARIA URVALLE CIA. LTDA., Carrera 9 No. 9-49 of. 902, Cali, Colombia; NIT # 800094652-7 (Colombia) [SDNT].

20. CONSTRUCTORA PIEDRA DEL CASTILLO S.A.S., Cr. 27 Nro. 35 Sur 162, Of. 336, Envigado, Antioquia, Colombia; NIT # 900848164-4 (Colombia) [SDNTK].

21. CONSTRUCTORA UNIVERSAL LTDA., Carrera 50 No. 9B-20 of. 07, Cali, Colombia; Calle 52 No. 28E-30, Cali, Colombia; NIT # 800112051-9 (Colombia) [SDNT].

22. CORPORACION DE ALMACENES POR DEPARTAMENTOS S.A. (a.k.a. C.A.D. S.A.), Diagonal 127A No. 17-34, Bogota, Colombia; NIT # 800173127-0 (Colombia) [SDNT].

23. CORPORACION HOTELERA DEL CARIBE LIMITADA (a.k.a. APARTAHOTEL TRES CASITAS; a.k.a. “TRES CASITAS”), Avenida Colombia No. 1-60, San Andres, Providencia, Colombia; NIT # 800104679-1 (Colombia) [SDNT].

24. CRETA S.A., Calle 15 No. 10-52, La Union, Valle, Colombia; NIT # 800019962-6 (Colombia) [SDNT].

25. DIMABE LTDA., Diagonal 127A No. 30-25, Bogota, Colombia; NIT # 800107988-4 (Colombia) [SDNT].

26. DOXA S.A., Carrera 16 No. 13-31, La Union, Valle, Colombia; NIT # 821002801-0 (Colombia) [SDNT].

27. DYSTRY PANAMA S.A., Av. Ramon Arias Malina, Primer Piso, Ciudad de Panama, Panama; Calle Calderon de La Barca 1315, Buenos Aires, Argentina; RUC # 245800-1-402386 (Panama) [SDNTK].

28. EAGLE COMMUNICATION BROKERS INC., Panama City, Panama [SDNT].

29. EXPLOTACIONES AGRICOLAS Y GANADERAS LA LORENA S.C.S. (a.k.a. EXAGAN), Calle 5 No. 22-39 of. 205, Cali, Colombia; Calle 52 No. 28E-30, Cali, Colombia; NIT # 800083192-3 (Colombia) [SDNT].

30. FRIGORIFICO DEL CAUCA S.A.S., Calle 30 28 A 14, Kilometro 1 Via Monteria, Caucasia, Antioquia, Colombia; NIT # 811017934-0 (Colombia) [SDNTK].

31. FRUTAS EXOTICAS COLOMBIANOS S.A. (a.k.a. FREXCO S.A.), Factoria La Rivera, La Union, Valle, Colombia; NIT # 800183514-0 (Colombia) [SDNT].

32. FUNDACION CENTRO DE INVESTIGACION HORTIFRUTICOLA DE COLOMBIA (a.k.a. CENIHF), Km. 2 La Victoria, La Union, Valle, Colombia; NIT # 821002640-1 (Colombia) [SDNT].

33. FUNDACION CENTRO FRUTICOLA ANDINO, Km. 2 Via La Victoria, La Union, Valle, Colombia; NIT # 800077756-2 (Colombia) [SDNT].

34. GAD S.A., Factoria La Rivera, La Union, Valle, Colombia; NIT # 821002971-4 (Colombia) [SDNT].

35. GBS TRADING S.A., Carrera 85 No. 15-110, Cali, Colombia; NIT # 805026824-5 (Colombia) [SDNT].

36. G.L.G. S.A. (a.k.a. CASA ESTRELLA), Apartado Aereo 250752, Bogota, Colombia; Avenida 15 No. 123-30, Local 1-13, Bogota, Colombia; Calle 53 No. 25-30, Bogota, Colombia; Calle 164 No. 40-40, Bogota, Colombia; Carrera 65 No. 71-74, Barranquilla, Colombia; Centro Comercial Chipichape, Cali, Colombia; Centro Comercial Galerias, Bogota, Colombia; Centro Comercial Unicentro, Local 1-13, Bogota, Colombia; Centro Comercial Unicentro, Local 209, Cali, Colombia; Diagonal 127A No. 17-34 Piso 5, Bogota, Colombia; NIT # 800023807-8 (Colombia) [SDNT].

37. GOODY PET S.A.S. (f.k.a. PET TREATS FACTORY COLOMBIA S.A.S.), Av. 36 C DG No. 42 CC 20, Bello, Antioquia, Colombia; Ciudad de Guatemala, Guatemala; NIT # 900713562-2 (Colombia) [SDNTK].

38. GRAJALES S.A., Carrera 25 No. 8-78, Bogota, Colombia; Factoria La Rivera, La Union, Valle, Colombia; Via Roldanillo Finca La Palmera, La Union, Valle, Colombia; NIT # 891900090-8 (Colombia) [SDNT].

39. HEBRON S.A., Calle 28 No. 27-18, Tulua, Valle, Colombia; NIT # 800107304-7 (Colombia) [SDNT].

40. IBADAN LTDA., Calle 28 No. 27-18, Tulua, Valle, Colombia; NIT # 800112215-1 (Colombia) [SDNT].

41. ILOVIN S.A., Avenida 15 No. 123-30, Local 1-13, Bogota, Colombia; NIT # 800141304-0 (Colombia) [SDNT].

42. INDUSTRIAS AGROPECUARIAS DEL VALLE LTDA., Carrera 50 No. 9B-20 of. 07, Cali, Colombia; Calle 52 No. 28E-30, Cali, Colombia; NIT # 800068160-5 (Colombia) [SDNT].

43. INDUSTRIAS AGROPECUARIAS EL EDEN S.A., Higueronal Torti, Darien, Panama [SDNT].

44. INDUSTRIAS DEL ESPIRITU SANTO S.A. (a.k.a. FRUCOSTA; n.k.a. FRUTAS DE LA COSTA S.A.), Carretera Oriental Km. 2 Via Barranquilla, Malambo, Atlantico, Colombia; NIT # 821002015-8 (Colombia) [SDNT].

45. INTERNATIONAL FREEZE DRIED S.A. (a.k.a. IFD S.A.), Carrera 92 No. 62-30, Bogota, Colombia; NIT # 830132968-1 (Colombia) [SDNT].

46. INVERSIONES AGUILA LTDA., Carrera 14 No. 14-56, La Union, Valle, Colombia; Factoria La Rivera, La Union, Valle, Colombia; NIT # 891903843-0 (Colombia) [SDNT].

47. INVERSIONES EL EDEN S.C.S., Calle 5 No. 22-39 of. 205, Cali, Colombia; Calle 52 No. 28E-30, Cali, Colombia; NIT # 800083195-5 (Colombia) [SDNT].

48. INVERSIONES GRAME LTDA., Factoria La Rivera, La Union, Valle, Colombia; NIT # 891903520-7 (Colombia) [SDNT].

49. INVERSIONES LOS POSSO LTDA. S.C.S., Factoria La Rivera, La Union, Valle, Colombia; NIT # 891903760-8 (Colombia) [SDNT].

50. INVERSIONES SANTA CECILIA S.C.S., Factoria La Rivera, La Union, Valle, Colombia; NIT # 891903795-5 (Colombia) [SDNT].

51. INVERSIONES SANTA MONICA LTDA., Factoria La Rivera, La Union, Valle, Colombia; NIT # 800042933-9 (Colombia) [SDNT].

52. JEHOVA LTDA., Calle 28 No. 27-18, Tulua, Valle, Colombia; NIT # 800112196-8 (Colombia) [SDNT].

53. JOSAFAT S.A., Calle 28 No. 27-18, Tulua, Valle, Colombia; NIT # 800112217-4 (Colombia) [SDNT].

54. JOSE PIELES, Km. 4 via Caucasia Caceres, Hda. Contadora, Caucasia, Antioquia, Colombia; Matricula Mercantil No 54369602 (Medellin) [SDNTK].

55. KUTRY MANAGEMENT INC., Torre Universal Building, 3rd Floor, Federico Boyd Avenue and 51st Street, Panama City, Panama; RUC # 34407212255995 (Panama) [SDNT].

56. LA ALIANZA GANADERA LTDA. (a.k.a. LA ALIANZA GANADERA S.A.S.), Calle 7 Sur 42 70, Of. 603, Medellin, Antioquia, Colombia; NIT # 900185737-8 (Colombia) [SDNTK].

57. L.GR. E.U. (a.k.a. PLATERIA L.GR. E.U.), Calle 38N No. 6N-35, Loc. 46, Cali, Colombia; NIT # 805024405-3 (Colombia) [SDNT].

58. LINEAS AEREAS ANDINAS LINCANDISA S.A. (a.k.a. LINCANDISA S.A.), Av. de los Shyris No. 35-174, Barrio Suecia, Quito, Ecuador; RUC # 1792136652001 (Ecuador) [SDNTK].

59. LOS VINEDOS DE GETSEMANI S.A. (a.k.a. HOTEL LOS VINEDOS; a.k.a. VALLE LINDO HOSTAL RESTAURANTE), Km. 1 Via a Roldanillo, La Union, Valle, Colombia; Troncal Del Pacifico Km. 1, La Union, Valle, Colombia; NIT # 800108902-6 (Colombia) [SDNT].

60. MACEDONIA LTDA., Calle 15 No. 10-52, La Union, Valle, Colombia; NIT # 800121860-9 (Colombia) [SDNT].

61. MANUFACTURAS REAL S.A. (f.k.a. MANUFACTURAS REAL LTDA.), Avenida 13 Sur No. 24C-73 Barrio Balvanera, Bogota, Colombia; NIT # 800158181-6 (Colombia) [SDNT].

62. MELON LTDA., Unicentro Casa Grajales, Cali, Colombia; NIT # 805000581-8 (Colombia) [SDNT].

63. OBRAS Y PROYECTOS PIQUEHERVA S.L., Calle de San Jose, 20, El Boalo, Madrid 28413, Spain; C.I.F. B84244748 (Spain) [SDNTK].

64. PANAMERICANA LTDA., Carrera 9 No. 9-46, Cali, Colombia; NIT # 800091914-8 (Colombia) [SDNT].

65. RAMAL S.A., Diagonal 127A No. 17-34 Piso 5, Bogota, Colombia; NIT # 800142109-5 (Colombia) [SDNT].

66. RECREO S.A., Calle 36D Sur Nro. 27-160 CA 54, Envigado, Antioquia, Colombia; NIT # 830500371-4 (Colombia) [SDNTK].

67. SALIM S.A., Calle 15 No. 10-52, La Union, Valle, Colombia; NIT # 821001412-4 (Colombia) [SDNT].

68. SALOME GRAJALES Y CIA. LTDA., Calle 53 No. 25-30, Bogota, Colombia; NIT # 800141337-3 (Colombia) [SDNT].

69. SOCIEDAD DE NEGOCIOS SAN AGUSTIN LTDA., Factoria La Rivera, La Union, Valle, Colombia; NIT # 800042932-1 (Colombia) [SDNT].

70. SUBASTA GANADERA DE CAUCASIA S.A. (a.k.a. SUBAGAUCA S.A.), Coliseo de Ferias, Km. 1 via a Planeta Rica, Caucasia, Antioquia, Colombia; NIT # 811016451-0 (Colombia) [SDNTK].

71. TARRITOS S.A., Calle 23 BN No. 5N-37, Ofc. 202, Cali, Colombia; NIT # 805028114-3 (Colombia) [SDNT].

72. TRANSPORTES DEL ESPIRITU SANTO S.A., Calle 14 No. 4-123, La Union, Valle, Colombia; Salida a la Victoria, La Union, Valle, Colombia; NIT # 821002436-5 (Colombia) [SDNT].

73. WORLD WORKING COMERCIALIZADORA INTERNACIONAL S.A. (f.k.a. C.I. GLOS'S INTERNATIONAL S.A.; a.k.a. WORLD WORKING C.I.), Carrera 10 No. 31-01 Zona Industrial Los Mangos, Cali, Colombia; NIT # 805023286-9 (Colombia) [SDNT].

Signed: October 31, 2023.
Gregory T. Gatjanis,
Associate Director, Office of Foreign Assets Control, U.S. Department of the Treasury.

[FR Doc. 2023-24510 Filed 11-6-23; 8:45 am]

BILLING CODE 4810-25-P